FEDERAL ELECTION COMMISSION

Sunshine Act Meetings

FEDERAL REGISTER CITATION NOTICE OF PREVIOUS ANNOUNCEMENT: 90 FR 12534.

PREVIOUSLY ANNOUNCED TIME AND DATE OF THE MEETING: Thursday, March 27, 2025, following the conclusion of the audit hearing.

CHANGE IN THE MEETING: The following item was also discussed:

Draft Advisory Opinion 2025-04: Government Accountability Institute

CONTACT PERSON FOR MORE INFORMATION: Myles Martin, Deputy Press Officer, Telephone: (202) 694-1221.

(Authority: Government in the Sunshine Act, 5 U.S.C. 552b)

Vicktoria J. Allen,
Deputy Secretary of the Commission.

[FR Doc. 2025-05590 Filed 3-28-25; 11:15 am]

BILLING CODE 6715-01-P